DEPARTMENT OF TRANSPORTATION

Federal Aviation Administration

14 CFR Part 97

[Docket No. 30803; Amdt. No. 3444]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective October 3, 2011. The compliance date for each SIAP, associated Takeoff Minimums, and ODP is specified in the amendatory provisions.

The incorporation by reference of certain publications listed in the regulations is approved by the Director of the Federal Register as of October 3, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to

http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule ” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (air).

Issued in Washington, DC, on September 16, 2011.
Ray Towles,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 20 OCT 2011

West Memphis, AR, West Memphis Muni, ILS OR LOC RWY 17, Amdt 5

Windsor Locks, CT, Bradley Intl, ILS OR LOC RWY 6, ILS RWY 6 (SA CAT I), ILS RWY 6 (CAT II), ILS RWY 6 (CAT III), Amdt 37

Windsor Locks, CT, Bradley Intl, ILS OR LOC RWY 24, ILS RWY 24 (SA CAT I), ILS RWY 24 (SA CAT II), Amdt 12

Windsor Locks, CT, Bradley Intl, ILS OR LOC RWY 33, Amdt 10

Windsor Locks, CT, Bradley Intl, RNAV (GPS) Y RWY 6, Amdt 2

Windsor Locks, CT, Bradley Intl, RNAV (GPS) Y RWY 15, Amdt 2

Windsor Locks, CT, Bradley Intl, RNAV (GPS) Y RWY 24, Amdt 3

Windsor Locks, CT, Bradley Intl, RNAV (GPS) Y RWY 33, Amdt 2

Windsor Locks, CT, Bradley Intl, RNAV (RNP) Z RWY 6, Orig

Windsor Locks, CT, Bradley Intl, RNAV (RNP) Z RWY 24, Orig

Windsor Locks, CT, Bradley Intl, VOR OR TACAN RWY 6, Orig-B, CANCELLED

Windsor Locks, CT, Bradley Intl, VOR OR TACAN RWY 15, Amdt 2A, CANCELLED

Windsor Locks, CT, Bradley Intl, VOR OR TACAN RWY 24, Orig-A, CANCELLED

Windsor Locks, CT, Bradley Intl, VOR OR TACAN RWY 33, Orig-C, CANCELLED

Wilmington, DE, New Castle, ILS OR LOC RWY 1, Amdt 23

Daytona Beach, FL, Daytona Beach Intl, ILS OR LOC RWY 25R, Orig

Daytona Beach, FL, Daytona Beach Intl, LOC BC RWY 25R, Amdt 16, CANCELLED

Daytona Beach, FL, Daytona Beach Intl, RNAV (GPS) RWY 25R, Amdt 3

Fitzgerald, GA, Fitzgerald Muni, Takeoff Minimums and Obstacle DP, Amdt 1

Greenfield, IA, Greenfield Muni, NDB OR GPS RWY 32, Amdt 1, CANCELLED

Lamoni, IA, Lamoni Muni, Takeoff Minimums and Obstacle DP, Orig

Driggs, ID, Driggs-Reed Memorial, RNAV (GPS) RWY 3, Amdt 1A, CANCELLED

Driggs, ID, Driggs-Reed Memorial, RNAV (GPS) RWY 3, Orig

Carmi, IL, Carmi Muni, GPS RWY 36, Orig-A, CANCELLED

Carmi, IL, Carmi Muni, RNAV (GPS) RWY 36, Orig

Carmi, IL, Carmi Muni, Takeoff Minimums and Obstacle DP, Amdt 2

Belleville, KS, Belleville Muni, NDB RWY 18, Amdt 5

Belleville, KS, Belleville Muni, NDB RWY 36, Amdt 5

Belleville, KS, Belleville Muni, RNAV (GPS) RWY 18, Orig

Belleville, KS, Belleville Muni, RNAV (GPS) RWY 36, Orig

Belleville, KS, Belleville Muni, Takeoff Minimums and Obstacle DP, Orig

Ottawa, KS, Ottawa Muni, GPS RWY 17, Orig-A, CANCELLED

Ottawa, KS, Ottawa Muni, GPS RWY 35, Orig, CANCELLED

Ottawa, KS, Ottawa Muni, RNAV (GPS) RWY 17, Orig

Ottawa, KS, Ottawa Muni, RNAV (GPS) RWY 35, Orig

Ottawa, KS, Ottawa Muni, Takeoff Minimums and Obstacle DP, Amdt 1

Topeka, KS, Forbes Field, NDB RWY 13, Amdt 7

Abbeville, LA, Abbeville Chris Crusta Memorial, LOC RWY 16, Orig

Great Barrington, MA, Walter J. Koladza, NDB-A, Amdt 6

Gladwin, MI, Gladwin Zettel Memorial, Takeoff Minimums and Obstacle DP, Amdt 3

Hastings, MI, Hastings, RNAV (GPS) RWY 12, Orig

Hastings, MI, Hastings, RNAV (GPS) RWY 30, Orig

Hannibal, MO, Hannibal Rgnl, NDB RWY 35, Amdt 4, CANCELLED

Salem, MO, Salem Memorial, Takeoff Minimums and Obstacle DP, Orig

Wayne, NE, Wayne Muni/Stan Morris Field, RNAV (GPS) RWY 18, Amdt 2

Wayne, NE, Wayne Muni/Stan Morris Field, RNAV (GPS) RWY 23, Amdt 1

Wayne, NE, Wayne Muni/Stan Morris Field, RNAV (GPS) RWY 36, Amdt 2

Morristown, NJ, Morristown Muni, Takeoff Minimums and Obstacle DP, Amdt 6

Pedricktown, NJ, Spitfire Aerodrome, Takeoff Minimums and Obstacle DP, Amdt 1

New York, NY, John F. Kennedy Intl, Takeoff Minimums and Obstacle DP, Amdt 8

New York, NY, La Guardia, Takeoff Minimums and Obstacle DP, Amdt 9

Memphis, TN, Memphis Intl, Takeoff Minimums and Obstacle DP, Amdt 3

Dallas, TX, Dallas-Love Field, Takeoff Minimums and Obstacle DP, Amdt 16

Laredo, TX, Laredo Intl, ILS OR LOC/DME RWY 17R, Amdt 11

Laredo, TX, Laredo Intl, RNAV (GPS) RWY 17R, Amdt 1

Laredo, TX, Laredo Intl, Takeoff Minimums and Obstacle DP, Amdt 4

Palacios, TX, Palacios Muni, Takeoff Minimums and Obstacle DP, Orig

Sweetwater, TX, Avenger Field, NDB RWY 17, Amdt 4

Sweetwater, TX, Avenger Field, RNAV (GPS) RWY 4, Orig

Sweetwater, TX, Avenger Field, RNAV (GPS) RWY 17, Orig

Sweetwater, TX, Avenger Field, RNAV (GPS) RWY 22, Orig

Sweetwater, TX, Avenger Field, RNAV (GPS) RWY 35, Orig

Richlands, VA, Tazewell County, LOC/DME RWY 25, Amdt 1

Richlands, VA, Tazewell County, RNAV (GPS) RWY 25, Amdt 1

Milwaukee, WI, General Mitchell Intl, ILS OR LOC RWY 7R, Amdt 16

Milwaukee, WI, General Mitchell Intl, LOC RWY 25L, Amdt 5

Milwaukee, WI, General Mitchell Intl, RNAV (GPS) RWY 7R, Amdt 1

Milwaukee, WI, General Mitchell Intl, RNAV (GPS) RWY 19R, Amdt 2

Milwaukee, WI, General Mitchell Intl, RNAV (GPS) RWY 25L, Amdt 1

New Holstein, WI, New Holstein Muni, RNAV (GPS) RWY 14, Orig

New Holstein, WI, New Holstein Muni, RNAV (GPS) RWY 32, Orig

New Holstein, WI, New Holstein Muni, Takeoff Minimums and Obstacle DP, Orig

New Holstein, WI, New Holstein Muni, VOR/DME-A, Amdt 2

RESCINDED: On September 15, 2011 (76 FR 56970), the FAA published an Amendment in Docket No. 30801, Amdt No. 3442 to Part 97 of the Federal Aviation Regulations under section 97.25. The following entry, effective September 22, 2011, is hereby rescinded in its entirety:

Abbeville, LA, Abbeville Chris Crusta Memorial, LOC RWY 16, Orig

[FR Doc. 2011-24724 Filed 9-30-11; 8:45 am]

BILLING CODE 4910-13-P